DEPARTMENT OF ENERGY

Federal Energy Regulatory Commission

[Project No. 14447-000]

L.S. Starrett Company; Notice of Application Accepted for Filing With the Commission, Intent To Waive Scoping, Soliciting Motions To Intervene and Protests, Ready for Environmental Analysis, Soliciting Comments, Terms and Conditions, and Recommendations, and Establishing An Expedited Schedule for Processing

Take notice that the following hydroelectric application has been filed with the Commission and is available for public inspection.

a. Type of Application: Exemption from Licensing.

b. Project No.: P-14447-000.

c. Date filed: August 15, 2012.

d. Applicant: L.S. Starrett Company.

e. Name of Project: Crescent Street Dam Hydroelectric Project.

f. Location: On Millers River, in the Town of Athol, Worcester County, Massachusetts. The project would not occupy lands of the United States.

g. Filed Pursuant to: Public Utility Regulatory Policies Act of 1978, 16 U.S.C. 2705, 2708.

h. Applicant Contact: Steve Walsh, L.S. Starrett Company, 121 Crescent Street, Athol, MA 01331; (978) 249-3551 ext. 229.

i. FERC Contact: Tom Dean, (202) 502-6041, thomas.dean@ferc.gov.

j. Deadline for filing motions to intervene and protests, comments, terms and conditions, and recommendations: Due to the small size and particular location of this existing project and the close coordination with state and federal agencies during the preparation of the application, the 60-day timeframe in 18 CFR 4.34(b) is shortened. Instead, motions to intervene and protests, comments, terms and conditions, and recommendations will be due 30 days from the issuance date of this notice. All reply comments must be filed with the Commission within 45 days from the date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. The application has been accepted for filing and is now ready for environmental analysis.

l. The proposed Crescent Street Dam Hydroelectric Project consists of: (1) An existing 28-foot-high, 127-foot-long concrete and masonry dam with a 98-foot-long spillway topped with a 3-foot-high bascule gate; (2) an existing 4.5-acre impoundment with a normal water surface elevation of 541.3 feet National Geodetic Vertical Datum of 1929; (3) existing generation facilities on the right side of the dam that include: (a) an intake structure equipped with a 7-foot-high, 7-foot-wide head gate and a 14-foot-high, 17.5-feet-wide trashrack with 1.25-inch clear bar spacing; (b) a 25-foot-long, 7-foot-diameter penstock; (c) a 44-foot-long, 28-foot-wide powerhouse containing a 250 kilowatt (kW) turbine generating unit; (d) a 7-foot-diameter, 47-foot-long bypass outlet conduit equipped with a 7-foot-high, 7-foot-wide gate; (e) a 16-foot-wide, 4-foot-deep, 200-foot-long tailrace; and (f) three existing 180-foot-long, 600 volt transmission lines; (4) existing generation facilities on the left side of the dam that include: (a) an 18-foot-long weir equipped with a 6-foot-high, 6-foot-wide slide gate and a 12-foot-high, 13.5-foot-wide trashrack with ¾-inch clear bar spacing; (b) a 55-foot-long, 6-foot-diameter penstock; (c) a 37-foot-long, 37-foot-wide powerhouse containing a 198 kW turbine generating unit; (d) a 14-foot-wide, 9-foot-deep, 100-foot-long tailrace; and (e) six 900-foot-long, 600 volt transmission lines; and (5) appurtenant facilities. The project would have an estimated average annual generation of 1,729.2 megawatt-hours. The applicant proposes to construct downstream and upstream fish passage facilities, a plunge pool, and upstream eel passage facility if required by fish and wildlife agencies, and operate the project in a run-of-river mode.

m. Due to the project works already existing and the limited scope of proposed modifications to the project site described above, the applicant's close coordination with federal and state agencies during the preparation of the application, and agency recommended preliminary terms and conditions, we intend to waive scoping and expedite the exemption process. Based on a review of the application, resource agency consultation letters, Commission staff intends to prepare a single environmental assessment (EA). Commission staff determined that the issues that need to be addressed in the EA have been adequately identified during the pre-filing period, which included a public meeting and site visit, and no new issues are likely to be identified through additional scoping. The EA will consider assessing the potential effects of project construction and operation on aquatic, terrestrial, threatened and endangered species, recreation and land use, aesthetic, and cultural and historic resources.

n. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

o. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title “PROTEST”, “MOTION TO INTERVENE”, “NOTICE OF INTENT TO FILE COMPETING APPLICATION,” “COMPETING APPLICATION,” “COMMENTS,” “REPLY COMMENTS,” “RECOMMENDATIONS,” or “TERMS AND CONDITIONS;” (2) set forth in the heading the name of the applicant and the project number of the application to which the filing responds; (3) furnish the name, address, and telephone number of the person protesting or intervening; and (4) otherwise comply with the requirements of 18 CFR 385.2001 through 385.2005. All comments, recommendations, or terms and conditions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

p. Procedural schedule: The application will be processed according to the following procedural schedule. Revisions to the schedule may be made as appropriate.

Milestone | Target date
Notice of the availability of the EA | March 2013

Dated: October 23, 2012.
Kimberly D. Bose,
Secretary.

[FR Doc. 2012-26591 Filed 10-29-12; 8:45 am]

BILLING CODE 6717-01-P